DEPARTMENT OF HEALTH AND HUMAN SERVICES

Centers for Disease Control and Prevention

[60 Day-09-0776]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Economic Analysis of the National Breast and Cervical Cancer Early Detection Program (OMB# 0920-0776)—Revision—Division of Cancer Prevention and Control, National Center for Chronic Disease Prevention and Health Promotion, Centers for Disease Control and Prevention (CDC).

Background and Brief Description

CDC administers the National Breast and Cervical Cancer Early Detection Program (NBCCEDP), the largest organized cancer screening program in the United States. The NBCCEDP provides critical breast and cervical cancer screening services to underserved low-income women in the United States, the District of Columbia, 4 U.S. territories, and 13 American Indian/Alaska Native organizations. The program provides breast and cervical cancer screening for eligible women who participate in the program as well as diagnostic procedures for women who have abnormal findings. During the past decade, the NBCCEDP has provided over 7.8 million breast and cervical cancer screening and diagnostic exams to over 3.2 million low-income women. Those who are diagnosed with cancer through the program are eligible for Medicaid coverage through the Breast and Cervical Cancer Prevention and Treatment Act passed by Congress in 2000.

CDC is currently approved to collect one year of information about activity-based economic costs incurred by the NBCCEDP during the period 07/01/2005-06/30/2006 (OMB No. 0920-0776, exp. 04/30/2009). Respondents are the 68 programs participating in the NBCCEDP. Information is collected electronically through a web-based Cost Allocation Tool (CAT) and includes: Staff and consultant salaries, screening costs, contracts and material costs, provider payments, in-kind contributions, administrative costs, allocation of funds and staff time devoted to specific program activities.

CDC plans to request OMB approval for the collection of two additional, consecutive years of economic information relating to the period 07/01/2007-06/30/2009. Burden to respondents is considered acceptable since they have already been trained to use the CAT. Minor changes to the data collection instrument will be implemented in the proposed second and third years to provide enhanced information about screening and diagnostic activities supported through the use of non-Federal funds.

The activity-based cost data will be used to evaluate grantees to ensure the most appropriate use of limited program resources in delivering program services such as screening, case management and outreach. The detailed cost data will allow CDC to determine the costs of various program components, identify factors that impact average cost, perform cost-effectiveness analysis and budget impact analysis, improve the CAT, and allocate program resources more effectively and efficiently. The collection of economic cost information complements the measures of NBCCEDP effectiveness collected as Minimum Data Elements (0920-0571, exp. 01/31/2010).

There are no costs to respondents other than their time.

Estimated Annualized Burden Hours

Type of respondents | Number of respondents | Number of responses per respondent | Average burden (in hrs) | Total burden (in hrs)
NBCCEDP grantee | 68 | 1 | 22 | 1,496

Dated: October 30, 2008.
Maryam I. Daneshvar,
Acting Reports Clearance Officer, Centers for Disease Control and Prevention.

[FR Doc. E8-26429 Filed 11-5-08; 8:45 am]

BILLING CODE 4163-18-P